DEPARTMENT OF HEALTH AND HUMAN SERVICES

Centers for Disease Control and Prevention

Disease, Disability, and Injury Prevention and Control Special Emphasis Panel (SEP); Initial Review

The meeting announced below concerns Human Immunodeficiency Virus (HIV) Prevention Projects for Young Men of Color, Funding Opportunity Announcement (FOA) PS11-1113, initial review.

Correction: The notice was published in the Federal Register on February 22, 2011, Volume 76, Number 35, Pages 9785-9786. The place should read as follows:

Place: Hilton Atlanta Hotel, 255 Courtland Street, NE., Atlanta, Georgia 30303, Telephone: (404) 659-2000.

Contact Person for More Information: Harriette Lynch, Public Health Analyst, Extramural Programs, National Center for HIV, Hepatitis and Sexually Transmitted Diseases Prevention, CDC, 1600 Clifton Road, NE., Mailstop E-60, Atlanta, Georgia 30333, Telephone: (404) 498-2726, e-mail HLynch@cdc.gov.

The Director, Management Analysis and Services Office, has been delegated the authority to sign Federal Register notices pertaining to announcements of meetings and other committee management activities, for both the Centers for Disease Control and Prevention and the Agency for Toxic Substances and Disease Registry.

Dated: May 25, 2011.
Elaine L. Baker,
Director, Management Analysis and Services Office, Centers for Disease Control and Prevention.

[FR Doc. 2011-13767 Filed 6-2-11; 8:45 am]

BILLING CODE 4163-18-P